FEDERAL COMMUNICATIONS COMMISSION

[DA 09-2029]

Notice of Debarment; Schools and Libraries Universal Service Support Mechanism

AGENCY: Federal Communications Commission.

ACTION: Notice.

SUMMARY: The Enforcement Bureau (the “Bureau”) debars Andre J. Hornsby from the schools and libraries universal service support mechanism (or “E-Rate Program”) for a period of three years based on his conviction of wire fraud, witness and evidence tampering, and obstruction of justice in connection with his participation in the program. The Bureau takes this action to protect the E-Rate Program from waste, fraud and abuse.

DATES: Debarment commences on the date Andre J. Hornsby receives the debarment letter or September 23, 2009, whichever date comes first, for a period of three years.

FOR FURTHER INFORMATION CONTACT: Rebekah Bina, Federal Communications Commission, Enforcement Bureau, Investigations and Hearings Division, Room 4-C330, 445 12th Street, SW., Washington, DC 20554. Rebekah Bina may be contacted by phone at (202) 418-7931 or e-mail at Rebekah.Bina@fcc.gov. If Ms. Bina is unavailable, you may contact Michele Berlove, Acting Assistant Division Chief, Investigations and Hearings Division, by telephone at (202) 418-1420 and by e-mail at michele.berlove@fcc.gov.

SUPPLEMENTARY INFORMATION: The Bureau debarred Andre J. Hornsby from the schools and libraries universal service support mechanism for a period of three years pursuant to 47 CFR 54.8 and 47 CFR 0.111. Attached is the debarment letter, DA 09-2029, which was mailed to Andre J. Hornsby and released on September 11, 2009. The complete text of the notice of debarment is available for public inspection and copying during regular business hours at the FCC Reference Information Center, Portal II, 445 12th Street, SW., Room CY-A257, Washington, DC 20554. In addition, the complete text is available on the FCC's Web site at http://www.fcc.gov. The text may also be purchased from the Commission's duplicating inspection and copying during regular business hours at the contractor, Best Copy and Printing, Inc., Portal II, 445 12th Street, SW., Room CY-B420, Washington, DC 20554, telephone (202) 488-5300 or (800) 378-3160, facsimile (202) 488-5563, or via e-mail http://www.bcpiweb.com.

Hillary S. DeNigro,
Chief, Investigations and Hearings Division, Enforcement Bureau, Federal Communications Commission.

September 11, 2009

DA 09-2029

VIA CERTIFIED MAIL RETURN RECEIPT REQUESTED

Andre J. Hornsby, Inmate No. 39456-037, FTC Oklahoma, Federal Transfer Center, Oklahoma City, Oklahoma 73189.

Re: Notice of Debarment File No. EB-09-IH-0408

Dear Mr. Hornsby: Pursuant to section 54.8 of the rules of the Federal Communications Commission (the “Commission”), by this Notice of Debarment you are debarred from the schools and libraries universal service support mechanism (or “E-Rate program”) for a period of three years.¹

¹ 47 C.F.R. § 54.8(g) (2008). See also 47 C.F.R. § 0.111(a)(14).

On July 14, 2009, the Enforcement Bureau (the “Bureau”) sent you a Notice of Suspension and Initiation of Debarment Proceedings (the “Notice of Suspension”).² That Notice of Suspension was published in the Federal Register on July 22, 2009.³ The Notice of Suspension suspended you from participating in activities associated with or relating to the schools and libraries universal service support mechanism and described the basis for initiation of debarment proceedings against you, the applicable debarment procedures, and the effect of debarment.⁴

² Letter from Hillary S. DeNigro, Chief, Investigations and Hearings Division, Enforcement Bureau, Federal Communications Commission, to Mr. Andre J. Hornsby, Notice of Suspension and Initiation of Debarment Proceedings, 24 FCC Rcd 9093 (Inv. & Hearings Div., Enf. Bur. 2009) (Attachment 1)(“Notice of Suspension”).

³ 74 Fed. Reg. 36223 (July 22, 2009).

⁴ See Notice of Suspension, 24 FCC Rcd at 9094-96.

Pursuant to the Commission's rules, any opposition to your suspension or its scope or to your proposed debarment or its scope had to be filed with the Commission no later than thirty (30) calendar days from the earlier date of your receipt of the Notice of Suspension or publication of the Notice of Suspension in the Federal Register.⁵ The Commission did not receive any such opposition.

⁵ See 47 C.F.R. § 54.8 (e)(3),(4). That date occurred no later than Aug. 21, 2009. See supra note 3.

As discussed in the Notice of Suspension, the United States District Court for the District of Maryland sentenced you to six years in prison following your conviction for federal crimes, including honest services wire fraud, witness and evidence tampering, and obstruction of justice, in connection with your activities related to the E-Rate program for Prince George's County Public School System (“PGCPS”).⁶ While employed as Chief Executive Officer, Secretary and Treasurer for the Board of Education for Prince George's County, you devised and participated in schemes to defraud PGCPS for your personal financial gain by steering contracts, making materially false representations, destroying records, and otherwise hiding your associations to conceal your role in the fraudulent conduct.⁷ Such conduct constitutes the basis for your debarment, and your conviction falls within the categories of causes for debarment under section 54.8(c) of the Commission's rules.⁸ For the foregoing reasons, you are hereby debarred for a period of three years from the debarment date, i.e., the earlier date of your receipt of this Notice of Debarment or its publication date in the Federal Register.⁹ Debarment excludes you, for the debarment period, from activities associated with or related to the schools and libraries support mechanism, including the receipt of funds or discounted services through the schools and libraries support mechanism, or consulting with, assisting, or advising applicants or service providers regarding the schools and libraries support mechanism.¹⁰

⁶ See Notice of Suspension, 24 FCC Rcd at 9094-95. See also United States v. Andre Jose Hornsby, Criminal Docket No. 8:06CR00376-PJM-1, Judgment (D. Md. filed and entered Dec. 5, 2008).

⁷ See Notice of Suspension, 24 FCC Rcd at 9094-95. See also United States v. Andre Jose Hornsby, Criminal Docket No. 8:06CR00376-PJM-1, Superseding Indictment (D. Md filed and entered Apr. 23, 2008).

⁸ 47 C.F.R. § 54.8(c). See also § 54.8(a)(4),(b)-(e).

⁹ See 47 C.F.R. § 54.8(e)(5),(g). See also Notice of Suspension, 24 FCC Rcd at 9096.

¹⁰ See 47 C.F.R. § 54.8(a)(1),(a)(5),(d),(g); Notice of Suspension, 24 FCC Rcd at 9096.

Sincerely,

Hillary S. DeNigro,

Chief, Investigations and Hearings Division, Enforcement Bureau.

cc: Michael R. Pauzé, Assistant United States Attorney, Department of Justice (via e-mail) Kristy Carroll, Esq., Universal Service Administrative Company (via e-mail)

Attachment 1

July 14, 2009

DA 09-1528

VIA CERTIFIED MAIL RETURN RECEIPT REQUESTED AND E-MAIL (robertbonsib@marcusbonsib.com) AND FACSIMILE (301) 441-3003

Andre J. Hornsby, c/o Robert C. Bonsib, Marcus and Bonsib, 6411 Ivy Lane, Suite 116, Greenbelt, MD 20770.

Re: Notice of Suspension and Initiation of Debarment Proceedings, File No. EB-09-IH-0408

Dear Mr. Hornsby: The Federal Communications Commission (“FCC” or “Commission”) has received notice of your conviction of federal crimes, including honest services wire fraud, witness and evidence tampering, and obstruction of justice, in connection with your participation in the schools and libraries universal service support mechanism (“E-Rate program”).¹¹ Consequently, pursuant to 47 C.F.R. § 54.8, this letter constitutes official notice of your suspension from the E-Rate program. In addition, the Enforcement Bureau (“Bureau”) hereby notifies you that we are commencing debarment proceedings against you.¹²

¹¹ See 18 U.S.C. §§ 1343, 1346 (honest services wire fraud), 1512(b) (attempted evidence tampering), and 1503 (obstruction of Justice). Any further reference in this letter to “your conviction” refers to your six count conviction. United States v. Andre Jose Hornsby, Criminal Docket No. 8:06CR00376-PJM-1, Judgment (D. Md. filed and entered Dec. 5, 2008) (“Hornsby Judgment”). See also United States v. Andre Jose Hornsby, Criminal Docket No. 8:06CR00376-PJM-1, Superseding Indictment (D. Md filed and entered Apr. 23, 2008) (“Hornsby Indictment”).

¹² 47 C.F.R. § 54.8 (2008). See also 47 C.F.R. § 0.111 (delegating to the Enforcement Bureau authority to resolve universal service suspension and debarment proceedings). The Commission adopted debarment rules for the schools and libraries universal service support mechanism in 2003. See Schools and Libraries Universal Service Support Mechanism, Second Report and Order and Further Notice of Proposed Rulemaking, 18 FCC Rcd 9202 (2003) (“Second Report and Order”) (adopting section 54.521 of the Commission's rules to suspend and debar parties from the E-Rate program). In 2007, the Commission extended the debarment rules to apply to all of the Federal universal service support mechanisms. Comprehensive Review of the Universal Service Fund Management, Administration, and Oversight; Federal-State Joint Board on Universal Service; Schools and Libraries Universal Service Support Mechanism; Lifeline and Link Up; Changes to the Board of Directors for the National Exchange Carrier Association, Inc., Report and Order, 22 FCC Rcd 16372, 16410-12 (2007) (Program Management Order) (renumbering section 54.521 of the universal service debarment rules as section 54.8 and amending subsections (a)(1), (5), (c), (d), (e)(2)(i), (3), (e)(4), and (g)).

I. Notice of Suspension

The Commission has established procedures to prevent persons who have “defrauded the government or engaged in similar acts through activities associated with or related to the schools and libraries support mechanism” from receiving the benefits associated with that program.¹³ On November 25, 2008, the United States District Court for the District of Maryland sentenced you to six years in prison, to be followed by three years of supervised release, following your conviction on federal crimes, including honest services wire fraud, witness and evidence tampering, and obstruction of justice, in connection with your activities related to the E-Rate program.¹⁴ In addition, you were ordered to pay a $20,000 fine and $70,000 in restitution to the Prince George's County Public School System (“PGCPS”).¹⁵

¹³ Second Report and Order, 18 FCC Rcd at 9225, ¶ 66. The Commission's debarment rules define a “person” as “[a]ny individual, group of individuals, corporation, partnership, association, unit of government or legal entity, however organized.” 47 C.F.R. § 54.8(a)(6).

¹⁴ Hornsby Judgment at 1-5. See also Hornsby Indictment at 1-21, 24-27, 29-30. (Discussion of your convictions in this notice is limited to those activities related to the E-Rate program).

¹⁵ Hornsby Judgment at 6-7. PGCPS was one of the 20 largest school districts in the nation in 2004, with a budget of more than $1 billion. See Department of Justice Press Release (Nov. 25, 2008), available at http://baltimore.fbi.gov/dojpressrel/pressrel08/ba112508.htm (DOJ November 2008 Press Release).

You were employed as Chief Executive Officer, Secretary and Treasurer for the Board of Education for Prince Georges County (“Board”).¹⁶ As Chief Executive Officer of the Board, you were responsible for overall administration of PGCPS from June 2003 until June 2005.¹⁷ Beginning in November 2003, you devised schemes to defraud PGCPS for your personal financial gain.¹⁸ You directed PGCPS employees to seek proposals from outside E-Rate consulting companies for assistance with PGCPS' E-Rate applications.¹⁹ Despite late filings and other disqualifications, you ultimately steered the bidding process and directed contracts be awarded for E-Rate consulting services to Erate Managers, LLC (“Erate Managers”), a non-existent company purportedly operated by an individual who had worked for you in other school districts (“Former Employee”).²⁰ You, in turn, were to receive more than $100,000 from the Former Employee for your role in securing the E-Rate consulting contracts with PGCPS, and accepted $1,000 in cash as a down payment.²¹ Further, you made materially false representations, destroyed records and otherwise hid your associations with the Former Employee to conceal your role in the fraudulent conduct at issue.²²

¹⁶ Hornsby Indictment at 2. See also DOJ November 2008 Press Release at 1. The Board was responsible for oversight of PGCPS. See Hornsby Indictment at 1. Responsibility for the overall administration of PGCPS was entrusted to the Chief Executive Officer, who reported to the Board. See Hornsby Indictment at 2.

¹⁷ Hornsby Indictment at 2.

¹⁸ Id. at 14-19. See also DOJ November 2008 Press Release at 1.

¹⁹ Hornsby Indictment at 6, 15.

²⁰ Id. at 4-8. You directed PGCPS personnel not to award contracts to the company with the highest overall score, and stalled the bidding process past the deadline in favor of waiting for a proposal from Erate Managers. Hornsby Indictment at 6-7. See also DOJ November 2008 Press Release at 1-2.

²¹ Hornsby Indictment at 8, 14-15. See also DOJ November 2008 Press Release at 1-2.

²² Hornsby Indictment at 14-18, 24-27, 29-30. See also DOJ November 2008 Press Release at 3.

Pursuant to section 54.8 of the Commission's rules, your conviction on criminal offenses arising out of consulting activities associated with or related to the schools and libraries support mechanism requires the Bureau to suspend you from continuing to participate in any activities associated with or related to the schools and libraries support mechanism.²³ Activities arising out of or related to the schools and libraries support mechanism include the receipt of funds or discounted services through the schools and libraries support mechanism, or consulting with, assisting, or advising applicants or service providers regarding the schools and libraries support mechanism.²⁴

²³ 47 C.F.R. § 54.8(b)-(e); see also § 54.8(a)(4).

²⁴ 47 C.F.R. § 54.8(a)(1); see also § 54.8(a)(3).

Your suspension becomes immediately effective upon the earlier of your receipt of this letter or publication of notice in the Federal Register, pending the Bureau's final debarment determination.²⁵ In accordance with the Commission's debarment rules, you may contest this suspension or the scope of this suspension by filing arguments in opposition to the suspension, with any relevant documentation.²⁶ Your request must be received within 30 days after you receive this letter or after notice is published in the Federal Register, whichever comes first.²⁷ Such requests, however, will not ordinarily be granted.²⁸ The Bureau may reverse or limit the scope of suspension only upon a finding of extraordinary circumstances.²⁹ The Bureau will decide any request for the reversal or modification of suspension within 90 days of its receipt of such request.³⁰

²⁵ 47 C.F.R. § 54.8(a)(7), (e)(1); see also Second Report and Order, 18 FCC Rcd at 9226, ¶ 69.

²⁶ 47 C.F.R. § 54.8(e)(4).

²⁷ Id.

²⁸ Id.

²⁹ 47 C.F.R. § 54.8(f); see also Second Report and Order, 18 FCC Rcd at 9226, ¶ 70.

³⁰ 47 C.F.R. § 54.8(e)(5), (f); see also Second Report and Order, 18 Fcc Rcd at 9226, ¶ 70.

II. Initiation of Debarment Proceedings

Your conviction for criminal conduct in connection with the E-Rate program, in addition to serving as a basis for immediate suspension from the program, also serves as a basis for the initiation of debarment proceedings against you. Your conviction falls within the categories of causes for suspension and debarment defined in section 54.8(c) of the Commission's rules.³¹ Therefore, pursuant to section 54.8 of the Commission's rules, your conviction requires the Bureau to commence debarment proceedings against you.³²

³¹ “Causes for suspension and debarment are the conviction of or civil judgment for attempt or commission of criminal fraud, theft, embezzlement, forgery, bribery, falsification or destruction of records, making false statements, receiving stolen property, making false claims, obstruction of justice and other fraud or criminal offense arising out of activities associated with or related to the schools and libraries support mechanism.” 47 C.F.R. § 54.8(c). You were convicted for obstruction of justice, attempted evidence tampering for falsification or destruction of records, and wire fraud. See supra note 4.

³² See 47 C.F.R. § 54.8(b), (c).

As with your suspension, you may contest debarment or the scope of the proposed debarment by filing arguments and any relevant documentation within 30 calendar days of the earlier of the receipt of this letter or of publication in the Federal Register.³³ Absent extraordinary circumstances, the Bureau will debar you.³⁴ The Bureau will decide any request for reversal or limitation of debarment within 90 days of receipt of such request.³⁵ If the Bureau decides to debar you, its decision will become effective upon the earlier of your receipt of a debarment notice or publication of the decision in the Federal Register.³⁶

³³ 47 C.F.R. § 54.8(e)(3), (5); see also Second Report and Order, 18 FCC Rcd at 9226, ¶ 70.

³⁴ 47 C.F.R. § 54.8(e)(5); see also Second Report and Order, 18 FCC Rcd at 9227, ¶ 74.

³⁵ 47 C.F.R. § 54.8(e)(5), (f); see also Second Report and Order, 18 FCC Rcd at 9226, ¶ 70.

³⁶ 47 C.F.R. § 54.8(e)(5). The Commission may reverse a debarment, or may limit the scope or period of debarment, upon a finding of extraordinary circumstances, following the filing of a petition by you or an interested party or upon motion by the Commission. 47 C.F.R. § 54.8(f).

If and when your debarment becomes effective, you will be prohibited from participating in activities associated with or related to the schools and libraries support mechanism for three years from the date of debarment.³⁷ The Bureau may, if necessary to protect the public interest, extend the debarment period.³⁸

³⁷ 47 C.F.R. § 54.8(a)(1), (d), (g); see also Second Report and Order, 18 FCC Rcd at 9225, ¶ 67.

³⁸ 47 C.F.R. § 54.8(g).

Please direct any response, if by messenger or hand delivery, to Marlene H. Dortch, Secretary, Federal Communications Commission, 236 Massachusetts Avenue, N.E., Suite 110, Washington, D.C. 20002, to the attention of Rebekah Bina, Attorney Advisor, Investigations and Hearings Division, Enforcement Bureau, Room 4-C330, with a copy to Michele Levy Berlove, Acting Assistant Chief, Investigations and Hearings Division, Enforcement Bureau, Room 4-C330, Federal Communications Commission. If sent by commercial overnight mail (other than U.S. Postal Service Express Mail and Priority Mail), the response should be sent to the Federal Communications Commission, 9300 East Hampton Drive, Capitol Heights, Maryland 20743. If sent by first-class, Express, or Priority mail, the response should be sent to Rebekah Bina, Attorney Advisor, Investigations and Hearings Division, Enforcement Bureau, Federal Communications Commission, 445 12th Street, S.W., Room 4-C330, Washington, DC 20554, with a copy to Michele Levy Berlove, Acting Assistant Chief, Investigations and Hearings Division, Enforcement Bureau, Federal Communications Commission, 445 12th Street, S.W., Room 4-C330, Washington, DC 20554. You shall also transmit a copy of the response via email to Rebekah.Bina@fcc.gov and to Michele.Berlove@fcc.gov.

If you have any questions, please contact Ms. Bina via mail, by telephone at (202) 418-7931 or by e-mail at Rebekah.Bina@fcc.gov. If Ms. Bina is unavailable, you may contact Ms. Michele Levy Berlove, Acting Assistant Chief, Investigations and Hearings Division, by telephone at (202) 418-1477 and by e-mail at Michele.Berlove@fcc.gov.

Sincerely yours,

Hillary S. DeNigro,

Chief, Investigations and Hearings Division Enforcement Bureau.

cc: Michael R. Pauzé, Assistant United States Attorney, Department of Justice (via e-mail) Kristy Carroll, Esq., Universal Service Administrative Company (via e-mail)

[FR Doc. E9-22962 Filed 9-22-09; 8:45 am]

BILLING CODE 6712-01-P